DEPARTMENT OF EDUCATION

Office of Elementary and Secondary Education—School Improvement Programs—Native Hawaiian Curriculum Development, Teacher Training and Recruitment Program

AGENCY: Department of Education.

ACTION: Notice of Proposed Priorities for fiscal Year (FY) 2000.

SUMMARY: The Secretary announces absolute priorities for the FY 2000 grant competition under the Native Hawaiian Curriculum Development, Teacher Training and recruitment Program. After funding continuation awards, the Secretary would use the remaining FY 2000 funds available under the program to award new grants to support activities in one or more of the following areas: (1) Computer literacy and and technology education, (2) agriculture education partnerships, (3) astronomy, (4) indigenous health, (5) waste management innovation, (6) prisoner education, and (7) marine resource management.

DATES: We must receive your comments on or before April 20, 2000.

ADDRESSES: Address all comments about this proposed priority to Lynn Thomas, Office of Elementary and Secondary Education, U.S. Department of Education, 400 Maryland Avenue, SW, Room 3C124, Washington, DC 20202-6410, Telephone: (202) 260-7779. If you prefer to send your comments through the Internet, use the following address: Lynn_thomas@ed.gov

FOR FURTHER INFORMATION CONTACT: Lynn Thomas, (202) 260-1541. If you use a telecommunications device for deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Invitation To Comment: Interested persons are invited to submit comments and recommendations regarding these proposed priorities. All comments submitted in response to this notice will be available for public inspection, during and after the comment period, in Room 3C124, 400 Maryland Avenue, SW, Washington, DC, between the hours of 8:30 a.m. and 4:00 p.m., Eastern time, Monday through Friday of each week except Federal holidays.

Assistance to Individual With Disabilities in Reviewing the Rulemaking Record: On request, the Department supplies an appropriate aid, such as a reader or print magnifier, to an individual with a disability that needs assistance to review the comments. If you want to schedule an appointment for this type of aid, you may call (202) 205-8113 or (202) 260-9895. If you use a TDD, you may call the Federal Information Relay Service (FIRS) at 1-800-877-8339.

General: There is available for distribution under the Native Hawaiian Curriculum Development, Teacher Training and Recruitment Program (20 USC 7909) a total of $5,500,000 of FY 2000 funds. Of this amount, approximately $3,300,000 will be used to award continuation awards to successful applicants in the FY 1999 competition. The remaining $2,200,000 of FY 2000 funds will be used to support curriculum development and teacher training activities in one or more of the following areas: (1) Computer literacy and technology education, (2) agriculture education partnerships, (3) astronomy, (4) indigenous health, (5) waste management innovation, (6) prisoner education, and (7) marine resource management. Except for marine resource management, these are the same areas that were funded under the FY 1999 competition. Congress has urged the Secretary to support activities in these seven areas and the Secretary believes that limiting newly funded projects in this way will help address the needs of Native Hawaiian students in these significant areas of Native Hawaiian culture and traditions. Therefore, the Secretary is announcing absolute funding priorities and intends to use available FY 2000 funds under the program for a competition to support projects in one or more of the seven categories.

The Secretary will announce final priorities for these competitions in a notice in the Federal Register. The final priorities will be determined by responses to this notice, available funds, and other considerations of the Department. Funding of a particular project depends on the final priority, the availability of funds, and the quality of the applications received. The publication of these proposed priorities does not preclude the Secretary from proposing additional priorities, nor does it limit the Secretary to funding only these priorities, subject to meeting applicable rulemaking requirements.

Note: This notice does not solicit applications. A notice inviting applications under the competitions will be published in the Federal Register concurrent with or following the notice of final priorities.

Absolute Priorities: Under the Native Hawaiian Curriculum Development, Teacher Training and Recruitment Program, the Secretary announces absolute preference to applications that focus entirely on activities in one of the following areas:

(1) Computer literacy and technology education—to support curriculum development, teacher training and model programs designed to increase computer literacy and access for Native Hawaiian elementary and secondary school students;

(2) Agriculture education partnerships—to support the integration of agricultural and businesses practices into high school curriculum through the expansion of partnerships between community-based agricultural businesses and high schools with high concentrations of Native Hawaiian students;

(3) Astronomy—to support the development of educational programs in astronomy for Native Hawaiian elementary and secondary school students to assist them in reaching challenging science and mathematics standards and to encourage them to enter the field of astronomy;

(4) Indigenous health—to support curriculum development, teacher training, and instruction activities that will foster a better understanding and knowledge of Native Hawaiian traditional medicine, particularly among Native Hawaiian elementary and secondary students;

(5) Waste management innovation—to study and document traditional Hawaiian practices of sustainable waste management and to prepare teaching materials for educational purpose and for demonstration on the use of native Hawaiian plants and animals for waste treatment and environmental remediation;

(6) Prisoner education—to support programs that target juvenile offenders and/or youth at risk of becoming juvenile offenders. Comprehensive and culturally sensitive strategies for reaching the target population will include family counseling, basic education/jobs skills training, and the involvement of community elders as mentors; and

(7) Marine resource management—to support programs designed to teach Native Hawaiian elementary and secondary students about traditional fishery management techniques used in the Native Hawaiian culture.

Intergovernmental Review: This program is subject to Executive Order 12372 and the regulations in 34 CFR part 79. one of the objectives of the Executive order is to foster an intergovernmental partnership and a strengthened federalism. The Executive order relies on processes developed by State and local governments for coordination and review of proposed Federal financial assistance.

This document provides early notification of our specific plans and actions for this program.

Program Authority: Sections 9209 of the Elementary and Secondary Education Act of 1965, as amended (20 U.S.C. 7909) CFDA 84.297A.

Electronic Access to This Document: You may review this document, as well as all other Department of Education documents published in the Federal Register, in text or Adobe Portable Document Format (PDF) on the Internet at either of the following sites: http://www.ed.gov/fedreg.htm or http://ocfo.ed.gov/news.html.

To use the PDF you must have Adobe Acrobat Reader Program with Search, which is available free at either of the preceding sites. If you have questions about using PDF, call the U.S. Government Printing Office (GPO), toll free, at 1-888-293-6498; or in the Washington, DC area at (202) 512-1530.

Note: The official version of this document is the document published in the Federal Register. Free Internet access to the official edition of the Federal Register and the Code of Federal Domestic Regulations is available on GPO Access at: http://www.access.gpo.gov/nara/index.html

Dated: March 16, 2000.
Michael Cohen,
Assistant Secretary for Elementary and Secondary Education.

[FR Doc. 00-6946 Filed 3-20-00; 8:45 am]

BILLING CODE 4000-01-M